DEPARTMENT OF AGRICULTURE

Submission for OMB Review; Comment Request

February 4, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program: State Issuance and Participation Estimates—Forms FNS- 388 and FNS-388A.

OMB Control Number: 0584-0081.

Summary of Collection: Section 18(b) of Food and Nutrition Act, (the Act) 7 U.S.C. 2027(b), limits the value of allotments paid to SNAP households to an amount not in excess of the appropriation for the fiscal year. Timely State monthly issuance estimates are necessary for the Food and Nutrition Service (FNS) to ensure that it remains within the appropriation and will have a direct effect upon the manner in which allotments would be reduced if necessary. While benefit reductions have never been ordered in the past under Section 18(b) nor are they anticipated based on current data, the Department must continue to monitor actual program costs against the appropriation.

Need and Use of the Information: FNS uses the FNS-388 report to obtain monthly estimated or actual issuance and participation data for the current and previous months. The FNS-388 is being updated to include separate reporting of Disaster SNAP benefit issuance and participation data which will improve data accountability and ensure data is available on a monthly basis for timely response to Federal, State and other inquiries. In addition, State agencies are required to submit a project area breakdown on the FNS-388, of issuance and participation data twice a year. The project area breakdown attached to the FNS-388, twice a year is known as the FNS-388A. This data is useful in identifying project areas that operate fraud detection units in accordance with the Act.

Description of Respondents: State, Local, or Tribal Government.

Number of Respondents: 53.

Frequency of Responses: Recordkeeping; Reporting: Monthly; semi-annually.

Total Burden Hours: 5,187.

Ruth Brown,
Departmental Information Collection Clearance Officer.

[FR Doc. 2014-02769 Filed 2-7-14; 8:45 am]

BILLING CODE 3410-30-P